DEPARTMENT OF AGRICULTURE

Rural Utilities Service

Basin Electric Power Cooperative, Notice of Finding of No Significant Impact

AGENCY: Rural Utilities Service, USDA.

ACTION: Notice of finding of no significant impact.

SUMMARY: Notice is hereby given that the Rural Utilities Service (RUS) has made a finding of no significant impact in connection with a request from Basin Electric Power Cooperative (Basin Electric) of Bismarck, North Dakota for assistance from RUS to finance the construction of a natural gas-fired combustion turbine and associated equipment near Groton in Brown County, South Dakota.

FOR FUTHER INFORMATION CONTACT: Nurul Islam, Environmental Protection Specialist, Rural Utilities Service, Engineering and Environmental Staff, Stop 1571, 1400 Independence Avenue, SW., Washington, DC 20250-1571, telephone (202) 720-1414, fax (202) 720-0820, e-mail nurul.islam@wdc.usda.gov. Information is also available from Mr. James A. Berg, Environmental Monitoring Coordinator, Basin Electric, 1717 East Interstate Avenue, Bismarck, North Dakota 58501, telephone (701) 223-0441, Fax (701) 224-5336, e-mail address jberg@bepc.com.

SUPPLEMENTARY INFORMATION: Basin Electric of Bismarck, North Dakota is proposing to construct a new 80-100 megawatt (MW) simple cycle gas turbine near Groton in Brown County, South Dakota. The primary purpose of the East Side Peaking Project (Project) is to meet the increasing power consumption requirements on the east side of Basin Electric's service territory. The proposed project would be located adjacent to an existing Basin Electric and Western Area Power Administration substation. The evaluated turbine offers the advantages of an aero-derivative gas turbine in achieving low emissions. The project would include a natural gas-fired combustion turbine and a modification to an existing substation will be required. In addition, approximately ½ mile of new transmission line will be constructed, and a new gas supply pipeline will be constructed to supply the natural gas. The South Dakota Department of Environment and Natural Resources approved Basin Electric's request to construct the proposed project and issued an Air Quality Construction/Operation permit in May 2005. The South Dakota Public Utilities Commission also approved the proposed project in May 2005. The Project is required to help meet the growing needs for power of Basin Electric's membership in South Dakota. RUS may provide financial assistance to Basin Electric for this project.

Basin Electric applied to the U.S. Department of Energy (DOE), Western Area Power Administration (Western) to interconnect the Project to Western's Groton Substation in Brown County, South Dakota. Western proposes to modify its substation to accommodate a new transmission line linking the peaking facility to the substation. RUS prepared an environmental assessment (EA) for the Project. The EA was distributed for public and agency review. Western was designated a cooperating agency for the EA by RUS. Western provided comments and the final EA was completed on June 20, 2005. U.S. Fish and Wildlife Service made a very general comment on the final EA. RUS did not receive any comments on the final EA from the public or from any other agencies. The EA, RUS believes, adequately addressed the potential environmental impacts of the Project. A number of environmental resource areas were analyzed including air quality, water quality, land use, floodplains, wetlands, cultural and historic properties, fish and wildlife resources, aesthetics, transportation, noise, human health and safety, and environmental justice. RUS, in accordance with its environmental policies and procedures, required that Basin Electric prepare an Environmental Report reflecting the potential impacts of the proposed facilities. The Environmental Analysis, which includes input from Federal, State, and local agencies, has been reviewed and accepted as RUS' EA for the project in accordance with 7 CFR 1794.41. Basin Electric published notices of the availability of the EA and solicited public comments per 7 CFR 1794.42. The 30-day comment period on the EA for the proposed project ended June 5, 2005.

Based on the EA, RUS has concluded that the proposed action will not have a significant effect to various resources, including important farmland, floodplains, wetlands, cultural resources, threatened and endangered species and their critical habitat, air and water quality, and noise.

RUS has also determined that there would be no negative impacts of the proposed project on minority communities and low-income communities as a result of the construction of the project.

Dated: July 21, 2005.
James R. Newby,
Assistant Administrator, Electric Program, Rural Utilities Service.

[FR Doc. 05-15675 Filed 8-8-05; 8:45 am]

BILLING CODE 3410-15-P